DEPARTMENT OF COMMERCE

International Trade Administration

[A-570-851]

Certain Preserved Mushrooms From the People's Republic of China: Final Results of Antidumping Duty Administrative Review

AGENCY: Import Administration, International Trade Administration, Department of Commerce.

SUMMARY: On November 6, 2006, the Department of Commerce published the preliminary results of the 2005-2006 administrative review of the antidumping duty order on certain preserved mushrooms from the People's Republic of China (“PRC”). This review covers three exporters.¹ The period of review (“POR”) is February 1, 2005, through January 31, 2006.

¹ This figure does not include those companies which did not respond to the Department's requests for information. See “Facts Available” section of this notice for further discussion.

Based on our analysis of the comments received, we have made changes to the margin calculations. Therefore, the final results differ from the preliminary results. The final weighted-average dumping margins for the reviewed firms are listed below in the section entitled “Final Results of Review.”

DATES: Effective Date: August 9, 2007.

FOR FURTHER INFORMATION CONTACT: Brian C. Smith or Terre Keaton Stefanova, AD/CVD Operations, Office 2, Import Administration, International Trade Administration, U.S. Department of Commerce, 14th Street and Constitution Avenue, NW., Washington, DC 20230; telephone: (202) 482-1766 or (202) 482-1280, respectively.

SUPPLEMENTARY INFORMATION:

Background

The review covers the following three exporters: (1) China Processed Food Import & Export Company (“COFCO”) and its affiliates China National Cereals, Oils & Foodstuffs Import & Export Corporation, COFCO (Zhangzhou) Food Industrial Co., Ltd. (“COFCO Zhangzhou”), Fujian Yu Xing Fruits & Vegetable Foodstuff Development Co. (“Yu Xing”), and Xiamen Jiahua Import & Export Trading Co., Ltd. (“Xiamen Jiahua”) (hereinafter collectively to referred to as “the COFCO entity”) ²; (2) Guangxi Eastwing Trading Co., Ltd. (“Guangxi Eastwing”); and (3) Primera Harvest (Xiangfan) Co., Ltd. (“Primera Harvest”). The POR is February 1, 2005, through January 31, 2006.

² In the Preliminary Results, we determined it appropriate to treat COFCO and its affiliates, China National, COFCO Zhangzhou, Xiamen Jiahua and Yu Xing, as one entity for margin calculation purposes because they met the regulatory criteria for collapsing. See October 31, 2006, Memorandum from the Team to The File, entitled “Certain Preserved Mushrooms from the People's Republic of China: Whether to Continue to Collapse COFCO with Some or All of Its Affiliates.” No party objected to this preliminary determination. Therefore, we have continued to treat these affiliated companies as one entity in the final results.

On November 6, 2006, the Department of Commerce (“the Department”) published the preliminary results of this administrative review of the antidumping duty order on certain preserved mushrooms from the PRC. See Certain Preserved Mushrooms from the People's Republic of China: Preliminary Results of Antidumping Duty Administrative Review, 71 FR 64930 (November 6, 2006) (“Preliminary Results”). We invited interested parties to comment on the Preliminary Results.

On November 9, 2006, the COFCO entity requested that the Department extend the deadlines to submit new factual information, publicly available information (“PAI”), and case and rebuttal briefs, as well as the deadline for the final results. On November 17, 2006, we notified the COFCO entity and the other interested parties in this review that although we did not find it necessary at the time to extend the final results, we would extend the deadline to submit new factual information and PAI until January 26, 2007, and extend the deadlines for submitting case and rebuttal briefs until February 9 and 14, 2007, respectively.

On January 22, 2007, the COFCO entity submitted a second request to further extend the deadline for submitting new factual information, PAI, and case and rebuttal briefs, and also requested that the Department fully extend the final results. On January 24, 2007, we notified the COFCO entity and the other interested parties in this review that the Department would provide new deadlines for submitting PAI, case and rebuttal briefs once the Department issued a Federal Register notice postponing the final results.

On January 29, 2007, we partially extended the time limit for the final results in this review until August 3, 2007. See Notice of Partial Extension of Time Limit for Final Results of Antidumping Duty Administrative Review: Certain Preserved Mushrooms from the People's Republic of China, 72 FR 5268 (February 5, 2007).

On January 31, 2007, the Department provided the COFCO entity and the other interested parties in this review revised deadlines for submitting PAI and case and rebuttal briefs.

On February 5, 2007, the Department placed on the record a revised non-market-economy (“NME”) wage rate applicable to the PRC for consideration in the final results.³

³ See Memorandum from Brian Smith, Team Leader, to The File, entitled “Antidumping Duty Administrative Review on Certain Preserved Mushrooms from the People's Republic of China: Revised Non-Market-Economy Wage Rate Applicable to the PRC,” dated February 5, 2007.

On March 19, 2007, the Department placed on the record an additional brokerage and handling surrogate value for consideration in the final results.⁴

⁴ See Memorandum from Brian Smith, Team Leader, to The File, entitled “Antidumping Duty Administrative Review on Certain Preserved Mushrooms from the People's Republic of China: Additional Brokerage and Handling Surrogate Value Placed on the Record,” dated March 19, 2007.

On March 30, 2007, the COFCO entity submitted PAI for consideration in the final results. No other party submitted PAI.

The COFCO entity filed its case brief on April 13, 2007. No other party (including the petitioner ⁵) filed case or rebuttal briefs in the review. No party requested a hearing.

⁵ The petitioner is the Coalition for Fair Preserved Mushroom Trade, which includes the following domestic companies: L.K. Bowman, Inc., Monterey Mushrooms, Inc., Mushroom Canning Company, and Sunny Dell Foods, Inc.

On June 29, 2007, the Department placed on the record information obtained from the Web site of an Indian producer of the subject merchandise and provided an opportunity for the parties to comment on that information.⁶ No comments were filed.

⁶ See Memorandum from Brian Smith, Team Leader, to The File, entitled “Antidumping Duty Administrative Review on Certain Preserved Mushrooms from the People's Republic of China: Additional Data Placed on the Record for Comment,” dated June 29, 2007.

We have conducted this administrative review in accordance with section 751(a) of the Tariff Act of 1930, as amended (“the Act”).

Scope of the Order

The products covered by this order are certain preserved mushrooms, whether imported whole, sliced, diced, or as stems and pieces. The certain preserved mushrooms covered under this order are the species Agaricus bisporus and Agaricus bitorquis. “Certain Preserved Mushrooms” refer to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.⁷

⁷ On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. On February 9, 2005, this decision was upheld by the United States Court of Appeals for the Federal Circuit. See Tak Fat v. United States, 396 F.3d 1378 (Fed. Cir. 2005).

The merchandise subject to this order is classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Analysis of Comments Received

All issues raised in the case brief submitted by the COFCO entity in this antidumping duty administrative review are addressed in the “Issues and Decision Memorandum” (“Decision Memo”) from Stephen J. Claeys, Deputy Assistant Secretary for Import Administration, to David M. Spooner, Assistant Secretary for Import Administration, dated August 3, 2007, which is hereby adopted by this notice. A list of the issues that the COFCO entity has raised and to which we have responded, all of which are in the Decision Memo, is attached to this notice as an appendix. Parties can find a complete discussion of all issues raised in this review and the corresponding recommendations in this public memorandum, which is on file in the Central Records Unit, room B-099 of the main Department building. In addition, a complete version of the Decision Memo can be accessed directly on the Web at http://ia.ita.doc.gov/frn. The paper copy and electronic version of the Decision Memo are identical in content.

Facts Available

In the Preliminary Results, the Department found that Gerber Food (Yunnan) Co., Ltd. (“Gerber”) and Green Fresh Foods (Zhangzhou) Co., Ltd. (“Green Fresh”) were uncooperative because Gerber did not respond to supplemental requests for information relevant to its no-shipment claim, whereas Green Fresh failed to file its response to the Department's quantity and value questionnaire in accordance with the Department's regulations. As a result, the Department considered the information both companies provided either incomplete, unreliable, or improperly filed. Moreover, the Department found that Guangxi Hengxian Pro-Light Foods, Inc. (“Guangxi Hengxian”) and Guangxi Yulin Oriental Food Co., Ltd. (“Guangxi Yulin”) were uncooperative as well because Guangxi Hengxian did not respond to the Department's antidumping duty questionnaire and Guangxi Yulin did not respond to the Department's quantity and value questionnaire. Because all four of these companies failed to provide responses to the Department's questionnaires, the Department could not determine whether they were eligible for a separate rate in this review and, therefore, treated them as part of the PRC-wide entity. In the Preliminary Results, the Department based the margin for the PRC-wide entity, including the four companies mentioned above, on total adverse facts available (“AFA”) because of the PRC-wide entity's failure to cooperate by not acting to the best of its ability in providing responses to the Department's request for information. As AFA, the Department applied the prior PRC-wide entity rate of 198.63 percent. See Preliminary Results, 71 FR at 64933.

A complete explanation of the selection, corroboration, and application of the AFA rate can be found in the Preliminary Results. See Preliminary Results, 71 FR at 64933. The Department did not receive comments with regard to its preliminary findings that Gerber, Green Fresh, Guangxi Hengxian, and Guangxi Yulin are part of the PRC-wide entity. Further, no information was submitted since the Preliminary Results that calls into question the reliability of the Department's selection, corroboration, and application of AFA in this review. Accordingly, for the final results, we continue to apply AFA to the PRC-wide entity, including Gerber, Green Fresh, Guangxi Hengxian, and Guangxi Yulin, consistent with our Preliminary Results.

Changes From the Preliminary Results

Based on the information submitted and our analysis of the comments received, we have made certain changes to the margin calculations for the COFCO entity as follows.

(1) We used the COFCO entity's January 26, 2007, revised factors of production database in our margin calculations.

(2) To value fresh mushrooms, we used data contained in the 2005-2006 financial report of Agro Dutch Industries Limited (“Agro Dutch”). See Decision Memo at Comment 1 for further discussion.

(3) To value spawn, we used data contained in the 2004-2005 financial report of Agro Dutch. See Decision Memo at Comment 3 for further discussion.

(4) To value foreign brokerage and handling, we used Agro Dutch's publicly summarized data submitted in the 2004-2005 administrative review of certain preserved mushrooms from India. See Decision Memo at Comment 4 for further discussion.

(5) We calculated average surrogate percentages for factory overhead, selling, general, and administrative expenses, and profit using the 2005-2006 financial reports of Agro Dutch and Flex Foods Limited. See Decision Memo at Comment 5 for further discussion.

(6) We used the most recently calculated NME wage rate for the PRC of 0.83 U.S. dollars per hour in our normal value calculations in accordance with Department practice (see, e.g., Freshwater Crawfish Tail Meat from the People's Republic of China: Notice of Final Results and Rescission, in Part, of 2004/2005 Antidumping Duty Administrative and New Shipper Reviews, 72 FR 19174 (April 17, 2007), and accompanying Issues and Decision Memorandum at Comment 2).

(7) Consistent with our regression-based PRC wage rate calculation, we have treated the bonuses and gratuity line items noted in the surrogate producers' financial reports as part of direct labor and included these expense items in the calculation of the denominator ⁸ used to derive the factory overhead ratio.

⁸ The denominator includes costs for direct materials, labor, energy and material freight costs.

See Memorandum from Brian Smith, Senior Case Analyst, to The File, entitled “7th Antidumping Duty Administrative Review of Certain Preserved Mushrooms from the People's Republic of China: Surrogate Values for the Final Results,” dated August 3, 2007, for further details.

Final Results of Review

We determine that the following weighted-average margin percentages exist:

Manufacturer/exporter | Margin (percent)
China Processed Food Import & Export Company (which includes its affiliates China National Cereals, Oils & Foodstuffs Import & Export Corporation, COFCO (Zhangzhou) Food Industrial Co., Ltd., Xiamen Jiahua Import & Export Trading Co., Ltd., and Fujian Yu Xing Fruit & Vegetable Foodstuff Development Co.) ⁹ | 19.02
Primera Harvest (Xiangfan) Co., Ltd | 19.02
Guangxi Eastwing Trading Co., Ltd ¹⁰ | 19.02
PRC-Wide Rate (which includes Gerber, Green Fresh, Guangxi Hengxian, Guangxi Yulin and Fujian Zishan Group Co., Ltd. (“Fujian Zishan”) ¹¹) | 198.63

Assessment Rates

The Department shall determine, and U.S. Customs and Border Protection (“CBP”) shall assess, antidumping duties on all appropriate entries, in accordance with 19 CFR 351.212(b). The Department will issue appropriate appraisement instructions directly to CBP 15 days after publication of these final results of review. In accordance with 19 CFR 351.106(c), we will instruct CBP to assess antidumping duties on all appropriate entries covered by this review if any importer-specific assessment rate calculated in the final results of this review is above de minimis (i.e., is not less than 0.50 percent ad valorem). For entries made by the COFCO entity, the respondent was unable to provide the entered value. Therefore, we calculated the importer-specific-per-unit duty assessment rate by aggregating the total amount of antidumping duties calculated for the examined sales and divided this amount by the total quantity of those sales. To determine whether the per-unit duty assessment rate is de minimis, in accordance with the requirement set forth in 19 CFR 351.106(c)(2), we calculated an importer-specific ad valorem ratio based on the estimated entered value. For Guangxi Eastwing and Primera Harvest (i.e., respondents which are being assigned the margin calculated for the COFCO entity), we will instruct CBP to assess antidumping duties on entries from these companies equal to the margin these companies received in the final results, regardless of the importer or customer.

⁹ For this review, we consider COFCO, COFCO Zhangzhou, Xiamen Jiahua, and Yu Xing to constitute a single entity.

¹⁰ The margin assigned to Primera Harvest (Xiangfan) Co., Ltd. (“Primera Harvest”) and Guangxi Eastwing Trading Co., Ltd. (“Guangxi Eastwing”), the two non-mandatory respondents in this review, which demonstrated their entitlement to a separate rate, is based on the weighted average of the calculated margins of the mandatory respondents which are not de minimis or based on AFA, in accordance with Department practice (i.e., the margin calculated for the COFCO entity which is the only mandatory respondent entitled to a separate rate in this case). See Preliminary Results, 71 FR at 64930-64931, 64937.

¹¹ As discussed in the Preliminary Results, 72 FR at 64934, Fujian Zishan is neither subject to this review nor entitled to a separate rate, as it is no longer part of the COFCO entity.

Cash Deposit Requirements

The following cash deposit requirements will be effective for all shipments of the subject merchandise entered, or withdrawn from warehouse, for consumption on or after the publication date of the final results of this administrative review, as provided by section 751(a)(1) of the Act: (1) The cash deposit rates for the reviewed companies will be the rates indicated above; (2) for any previously reviewed or investigated PRC or non-PRC exporter, not covered in this review, with a separate rate, the cash deposit rate will be the company-specific rate established in the most recent segment of this proceeding; (3) for all other PRC exporters, the cash deposit rate will be the PRC-wide rate established in the final results of this review; and (4) the cash deposit rate for any non-PRC exporter of subject merchandise from the PRC will be the rate applicable to the PRC exporter that supplied that non-PRC exporter. These deposit requirements shall remain in effect until further notice.

Notification to Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 751(a)(1) and 777(i) of the Act and 19 CFR 351.221.

Dated: August 3, 2007.
David M. Spooner,
Assistant Secretary for Import Administration.

Appendix—List of Issues

Comment 1: Selection of Fresh Mushroom Value

Comment 2: Selection of Glass Jar Value

Comment 3: Selection of Spawn Value

Comment 4: Selection of Brokerage and Handling Value

Comment 5: Selection of Financial Statements

Comment 6: Reclassification and Adjustments to Certain Financial Data

Comment 7: Method of Adjusting U.S. Prices for Glass Jars/Caps Provided Free-of-Charge

[FR Doc. E7-15575 Filed 8-8-07; 8:45 am]

BILLING CODE 3510-DS-P